COMMITTEE FOR THE IMPLEMENTATION OF TEXTILE AGREEMENTS

Settlement of a Call and Establishment of an Import Limit for Certain Man-Made Fiber Textile Products Produced or Manufactured in Belarus

March 16, 2000.

AGENCY: Committee for the Implementation of Textile Agreements (CITA).

ACTION: Issuing a directive to the Commissioner of Customs settling a call and establishing a limit.

EFFECTIVE DATE: March 23, 2000.

FOR FURTHER INFORMATION CONTACT: Naomi Freeman, International Trade Specialist, Office of Textiles and Apparel, U.S. Department of Commerce, (202) 482-4212. For information on the quota status of this limit, refer to the Quota Status Reports posted on the bulletin boards of each Customs port, call (202) 927-5850, or refer to the U.S. Customs website at http://www.customs.ustreas.gov. For information on embargoes and quota re-openings, call (202) 482-3715.

SUPPLEMENTARY INFORMATION:

Authority: Section 204 of the Agricultural Act of 1956, as amended (7 U.S.C. 1854); Executive Order 11651 of March 3, 1972, as amended.

A notice published in the Federal Register on December 22, 1999 (64 FR 71982) established a twelve-month limit of 6,480,552 square meters for glass fiber fabric in Category 622, produced or manufactured in Belarus and exported to the United States during the twelve-month period which began on September 17, 1999 and extends through September 16, 2000.

In the Memorandum of Understanding (MOU) between the Governments of the United States and Belarus, dated February 17, 2000, the governments agreed to establish a new limit for Category 622 of 11,500,000 square meters, effective for the period January 1, 2000 through December 31, 2000.

In addition, both governments agreed to establish a sublimit of 1,000,000 square meters for the entry for consumption and withdrawal from warehouse for consumption of glass fiber fabric in Category 622-L weighing 185 grams or less per square meter. The Category 622-L limit is not currently being implemented but will be in the near future; import charges for this category will be provided to the U.S. Customs service at a later date after the necessary statistical breakouts have been established.

This limit may be revised if Belarus becomes a member of the World Trade Organization (WTO) and the United States applies the WTO agreement to Belarus.

A description of the textile and apparel categories in terms of HTS numbers is available in the CORRELATION: Textile and Apparel Categories with the Harmonized Tariff Schedule of the United States (see Federal Register notice 64 FR 71982, published on December 22, 1999; this notice precedes the Belarus notice in the same issue of the Federal Register).

Troy H. Cribb,
Chairman, Committee for the Implementation of Textile Agreements.

Committee for the Implementation of Textile Agreements

March 16, 2000

Commissioner of Customs,

Department of the Treasury, Washington, DC 20229.

Dear Commissioner: This directive cancels and supersedes the directive issued to you on December 17, 1999. That directive concerns imports of certain man-made fiber textile products, produced or manufactured in Belarus and exported during the twelve-month period which began on September 17, 1999 and extends through September 16, 2000.

Pursuant to section 204 of the Agricultural Act of 1956, as amended (7 U.S.C. 1854); Executive Order 11651 of March 3, 1972, effective on March 23, 2000, you are directed to prohibit entry into the United States for consumption and withdrawal from warehouse for consumption of glass fiber fabric products in Category 622, produced or manufactured in Belarus and exported during the twelve-month period which began on January 1, 2000 and extends through December 31, 2000, in excess of 11,500,000 square meters ¹.

¹ The limit has not been adjusted to account for any imports exported after December 31, 1999.

Textile products in Category 622 which have been exported to the United States prior to January 1, 2000 shall not be subject to the limit established in this directive.

This limit may be revised if Belarus becomes a member of the World Trade Organization (WTO) and the United States applies the WTO agreement to Belarus.

You are directed to keep all current charges, but deduct 2,864,349 square meters from the charges for goods in Category 622 exported during the period September 17, 1999 through December 31, 1999.

In carrying out the above directions, the Commissioner of Customs should construe entry into the United States for consumption to include entry for consumption into the Commonwealth of Puerto Rico.

The Committee for the Implementation of Textile Agreements has determined that this action falls within the foreign affairs exception of the rulemaking provisions of 5 U.S.C.553(a)(1).

Sincerely,

Troy H. Cribb,
Chairman, Committee for the Implementation of Textile Agreements.

[FR Doc. 00-7095 Filed 3-21-00; 8:45 am]

BILLING CODE 3510-DR-F